GENERAL SERVICES ADMINISTRATION

[Notice-MA-2019-01; Docket No. 2019-0001, Sequence No. 3]

Federal Travel Regulation: Reimbursement of Fees for Nonconventional Lodging

AGENCY: Office of Government-wide Policy (OGP), General Services Administration (GSA).

ACTION: Notice of Federal Travel Regulation (FTR) Bulletin 19-04, Reimbursement of fees for conventional and nonconventional lodging.

SUMMARY: Per the Federal Travel Regulation (FTR), agencies may reimburse employees for the use of nonconventional lodging “when there are no conventional lodging facilities in the area (e.g., in remote areas) or when conventional facilities are in short supply.” As the use of nonconventional lodging amongst Federal travelers has grown, so have questions about the associated fees agencies may reimburse. FTR Bulletin 19-04 clarifies what fees agencies may reimburse when employees use either conventional or nonconventional lodging while on official temporary duty (TDY) travel. This Bulletin is located at www.gsa.gov/ftr under the “FTR & Related Files” tab.

DATES: Applicable date: February 13, 2019.

FOR FURTHER INFORMATION CONTACT: For clarification of content, please contact Jill Denning, Program Analyst, Office of Government-wide Policy, Office of Asset and Transportation Management, at 202-208-7642, or by email at travelpolicy@gsa.gov. Please cite Notice of FTR Bulletin 19-04.

Dated: February 7, 2019.
Jessica Salmoiraghi,
Associate Administrator, Office of Government-wide Policy.

[FR Doc. 2019-02138 Filed 2-12-19; 8:45 am]

BILLING CODE 6820-14-P